NUCLEAR REGULATORY COMMISSION

[Docket No. 50-423]

Northeast Nuclear Energy Company, et al.; Notice of Issuance of Amendment to Facility Operating License and Final Determination of No Significant Hazards Consideration

The U.S. Nuclear Regulatory Commission (Commission) has issued Amendment No. 189 to Facility Operating License No. NPF-49, issued to Northeast Nuclear Energy Company (NNECO), which revised the Technical Specifications (TSs) for operation of the Millstone Nuclear Power Station, Unit No. 3 located in New London, Connecticut. The amendment was effective as of the date of its issuance.

The amendment modifies License No. NPF-49 for the Millstone Nuclear Power Station, Unit No. 3 (MNPS3) by revising TSs 1.40, “Spent Fuel Pool Storage Pattern”; 1.41, “3-OUT-OF-4 AND 4-OUT-OF-4”; 3/4.9.1.2, “Boron Concentration”; 3/4.9.7, “Crane Travel-Spent Fuel Storage Areas”; 3/4.9.13, “Spent Fuel Pool-Reactivity”; 3.9.14, “Spent Fuel Pool-Storage Pattern”; 5.6.1.1, “Design Features—Criticality”; and 5.6.3, “Design Features—Capacity.” In addition, the amendment revises INDEX pages xii and xv for new figures and page numbers and replaces Figures 3.9-1 and 3.9-2 with four new figures and makes changes to the TS Bases consistent with changes to their respective TS sections. These changes are being made to support the increase in the capacity of the spent fuel pool at MNPS3 from 756 assemblies to 1,860 assemblies.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment and Proposed No Significant Hazards Consideration Determination and Opportunity for Hearing in connection with this action was published in the Federal Register on September 7, 1999 (64 FR 48672). A request for a hearing was filed on October 6, 1999, by the Connecticut Coalition Against Millstone (CCAM) and the Long Island Coalition Against Millstone (CAM). As a result of the request, the Atomic Safety and Licensing Board (ASLB) held hearings on July 19, 2000. The ASLB, reaching a conclusion on the contentions brought before it, issued its Memorandum and Order on October 26, 2000. Having reached a conclusion, the ASLB ordered the hearing terminated. However, the proceeding continues, since, on November 13, 2000, CCAM/CAM petitioned the Commission for review of the Memorandum and Order.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the Safety Evaluation related to this amendment. Accordingly, as described above, the amendment has been issued and made immediately effective.

The Commission has determined that this amendment satisfies the criteria for categorical exclusion in accordance with 10 CFR 51.22. Therefore, pursuant to 10 CFR 51.22(b), no environmental impact statement or environmental assessment need be prepared for this amendment.

For further details with respect to this action see: (1) The application for an amendment filed by NNECO dated March 19, 1999, as supplemented April 17, May 5, June 16, July 26, and November 21, 2000, (2) Amendment No. 189 to Facility Operating License No. NPF-49, and (3) the Commission's related Safety Evaluation. All of these items are available for public inspection at the Commission's Public Document Room, One White Flint North, 11555 Rockville Pike (first floor), Rockville, MD, and accessible electronically through the ADAMS Public Electronic Reading Room link at the NRC Web site (http://www.nrc.gov).

Dated at Rockville, Maryland this 28th day of November 2000.
For the Nuclear Regulatory Commission.
James W. Clifford,
Chief, Section 2, Project Directorate I, Division of Licensing Project Management, Office of Nuclear Reactor Regulation.

[FR Doc. 00-30784 Filed 12-1-00; 8:45 am]

BILLING CODE 7590-01-P